DEPARTMENT OF HEALTH AND HUMAN SERVICES

Office of the Assistant Secretary for Planning and Evaluation

Secretary's Advisory Committee on Regulatory Reform; Notice of Meeting

ACTION: Notice of meeting.

SUMMARY: Notice is hereby given of a meeting by the Department of Health and Human Services (HHS) Secretary's Advisory Committee on Regulatory Reform. As governed by the Federal Advisory Committee Act in accordance with section 10(a)(2), the Secretary's Advisory Committee on Regulatory Reform is seeking guidance for the Department's efforts to streamline regulatory requirements. The Advisory Committee will advise and make recommendations for changes that would be beneficial in four broad areas: health care delivery, health systems operations, biomedical and health research, and the development of pharmaceuticals and other products.

All meetings and hearings of the Committee are open to the general public. During each meeting, invited witnesses will address how regulations affect health-related issues. Meeting agendas will also allow time for public comment. Additional information on each meeting's agenda and list of participating witnesses will be posted on the Committee's Web site prior to the meetings (http://www.regreform.hhs.gov).

DATES: The first meeting of the Secretary's Advisory Committee on Regulatory Reform will be held on Monday, January 7, 2002, from 9 a.m. to 5:30 p.m. and on Tuesday, January 8, 2002, from 8 a.m. to 1 p.m.

ADDRESSES: The Secretary's Advisory Committee on Regulatory Reform will meet on Monday, January 7, in the Ross Auditorium at Providence Hospital, 1150 Varnum Street NE., Washington, DC 20017. On Tuesday, January 8, the Committee will meet in Room 800 of the Hubert H. Humphrey Building, 200 Independence Avenue SW., Washington, DC 20201.

FOR FURTHER INFORMATION CONTACT: Christy Schmidt, Executive Coordinator, Secretary's Advisory Committee on Regulatory Reform, Office of the Assistant Secretary for Planning and Evaluation, 200 Independence Avenue, SW., Room 801, Washington, DC 20201, (202) 401-5182.

SUPPLEMENTARY INFORMATION: Providence Hospital and the Hubert H. Humphrey Building are in compliance with the Americans with Disabilities Act. Anyone planning to attend the meeting who requires special disability-related arrangements such as sign-language interpretation should provide notice of their need by Friday, December 31, 2001. Please make any request to Michael Starkweather “ phone: 301-628-3141; fax: 301-628-3101; email: mstarkweather@s-3.com.

On June 8, 2001, HHS Secretary Thompson announced a Department-wide initiative to reduce regulatory burdens in health care, to improve patient care, and to respond to the concerns of health care providers and industry, State and local Governments, and individual Americans who are affected by HHS rules. As part of this initiative, the Department is establishing the Secretary's Advisory Committee on Regulatory Reform to provide findings and recommendations regarding potential regulatory changes. These changes would enable HHS to reduce burdens and costs associated with departmental regulations and paperwork, while at the same time maintaining or enhancing the effectiveness, efficiency, impact, and access of HHS programs.

Dated: December 13, 2001.
Dr. William F. Raub,
Deputy Assistant Secretary for Planning and Evaluation.

[FR Doc. 01-31319 Filed 12-19-01; 8:45 am]

BILLING CODE 4151-05-P